DEPARTMENT OF ENERGY

Federal Energy Regulatory Commission

Combined Notice of Filings #1

Take notice that the Commission received the following electric corporate filings:

Docket Numbers: EC18-121-000.

Applicants: WEC Infrastructure LLC, Bishop Hill Energy III LLC, Bishop Hill Interconnection LLC.

Description: Joint Application for Authorization Under Section 203 of the Federal Power Act of Bishop Hill Energy III LLC, et. al.

Filed Date: 7/6/18.

Accession Number: 20180706-5128.

Comments Due: 5 p.m. ET 7/27/18.

Take notice that the Commission received the following exempt wholesale generator filings:

Docket Numbers: EG18-103-000.

Applicants: Bluebell Solar, LLC.

Description: Notice of Self-Certification of Exempt Wholesale Generator Status of Bluebell Solar, LLC.

Filed Date: 7/6/18.

Accession Number: 20180706-5142.

Comments Due: 5 p.m. ET 7/27/18.

Docket Numbers: EG18-104-000.

Applicants: Casa Mesa Wind, LLC.

Description: Notice of Self-Certification of Exempt Wholesale Generator Status of Casa Mesa Wind, LLC.

Filed Date: 7/6/18.

Accession Number: 20180706-5143.

Comments Due: 5 p.m. ET 7/27/18.

Docket Numbers: EG18-105-000.

Applicants: Titan Solar, LLC.

Description: Notice of Self-Certification of Exempt Wholesale Generator Status of Titan Solar, LLC.

Filed Date: 7/6/18.

Accession Number: 20180706-5144.

Comments Due: 5 p.m. ET 7/27/18.

Take notice that the Commission received the following electric rate filings:

Docket Numbers: ER18-899-001.

Applicants: Commonwealth Edison Company, PJM Interconnection, L.L.C.

Description: Tariff Amendment: ComEd submits response to the Commission's 4/24/18. Deficiency Letter in ER18-899 to be effective 4/24/2018.

Filed Date: 7/9/18.

Accession Number: 20180709-5043.

Comments Due: 5 p.m. ET 7/30/18.

Docket Numbers: ER18-903-001.

Applicants: Delmarva Power & Light Company, PJM Interconnection, L.L.C.

Description: Tariff Amendment: Delmarva submits response to Commission's 4/24/18. Deficiency Letter in ER18-903 to be effective 4/24/2018.

Filed Date: 7/9/18.

Accession Number: 20180709-5032.

Comments Due: 5 p.m. ET 7/30/18.

Docket Numbers: ER18-904-001.

Applicants: Atlantic City Electric Company, PJM Interconnection, L.L.C.

Description: Tariff Amendment: ACE submits response to the Commission's 4/24/18. Deficiency Letter in ER18-904 to be effective 4/24/2018.

Filed Date: 7/9/18.

Accession Number: 20180709-5042.

Comments Due: 5 p.m. ET 7/30/18.

Docket Numbers: ER18-905-001.

Applicants: Potomac Electric Power Company, PJM Interconnection, L.L.C.

Description: Tariff Amendment: PEPCO submits response to Commission's 4/24/18. Deficiency Letter in ER18-905 to be effective 4/24/2018.

Filed Date: 7/9/18.

Accession Number: 20180709-5037.

Comments Due: 5 p.m. ET 7/30/18.

Docket Numbers: ER18-1968-001.

Applicants: PJM Interconnection, L.L.C.

Description: Tariff Amendment: Correction to Effective Date RE: Long-Term FTR Auctions Docket No. ER18-1968-000 to be effective 9/3/2018.

Filed Date: 7/9/18.

Accession Number: 20180709-5044.

Comments Due: 5 p.m. ET 7/30/18.

Docket Numbers: ER18-1975-000.

Applicants: Florida Power & Light Company.

Description: § 205(d) Rate Filing: FPL Revisions to LCEC Rate Schedule No. 317 to be effective 1/1/2017.

Filed Date: 7/6/18.

Accession Number: 20180706-5114.

Comments Due: 5 p.m. ET 7/27/18.

Docket Numbers: ER18-1976-000.

Applicants: Florida Power & Light Company.

Description: § 205(d) Rate Filing: FPL Revisions to FKEC Rate Schedule No. 322 to be effective 1/1/2017.

Filed Date: 7/6/18.

Accession Number: 20180706-5115.

Comments Due: 5 p.m. ET 7/27/18.

Docket Numbers: ER18-1977-000.

Applicants: Brantley Farm Solar, LLC.

Description: Baseline eTariff Filing: Baseline new to be effective 8/18/2018.

Filed Date: 7/6/18.

Accession Number: 20180706-5124.

Comments Due: 5 p.m. ET 7/27/18.

Docket Numbers: ER18-1978-000.

Applicants: Casa Mesa Wind, LLC.

Description: Baseline eTariff Filing: Casa Mesa Wind, LLC Application for Market-Based Rate Authority to be effective 9/1/2018.

Filed Date: 7/6/18.

Accession Number: 20180706-5126.

Comments Due: 5 p.m. ET 7/27/18.

Docket Numbers: ER18-1979-000.

Applicants: PJM Interconnection, L.L.C.

Description: § 205(d) Rate Filing: Amendment to ISA SA No. 3390; Queue No. O29 to be effective 8/3/2012.

Filed Date: 7/6/18.

Accession Number: 20180706-5127.

Comments Due: 5 p.m. ET 7/27/18.

Docket Numbers: ER18-1980-000.

Applicants: National Grid Generation LLC.

Description: § 205(d) Rate Filing: Annual Reset of Pension and OPEB Expenses to be effective 1/1/2018.

Filed Date: 7/9/18.

Accession Number: 20180709-5031.

Comments Due: 5 p.m. ET 7/30/18.

Take notice that the Commission received the following electric securities filings:

Docket Numbers: ES18-45-000.

Applicants: Allegheny Generating Company.

Description: Application for Authorization Under Section 204(a) of the Federal Power Act to Issue Debt of Allegheny Generating Company.

Filed Date: 7/6/18.

Accession Number: 20180706-5134.

Comments Due: 5 p.m. ET 7/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2018.
Nathaniel J. Davis, Sr.,
Deputy Secretary.

[FR Doc. 2018-14977 Filed 7-12-18; 8:45 am]

BILLING CODE 6717-01-P